DEPARTMENT OF HOUSING AND URBAN DEVELOPMENT

[Docket No. FR-7028-N-04; OMB Control No. 2577-0218]

60-Day Notice of Proposed Information Collection: Indian Housing Block Grant (IHBG) Competitive Program Annual Performance Report

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 20, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Dacia Rogers, Office of Policy, Programs and Legislative Initiatives, PIH, Department of Housing and Urban Development, 451 7th Street SW, (Room 3178), Washington, DC 20410; telephone 202-708-3000, extension 3374, (this is not a toll-free number). Persons with hearing or speech impairments may access this number via TTY by calling the Federal Relay Service at (800) 877-8339. Copies of available documents submitted to OMB may be obtained from Ms. Rogers.

SUPPLEMENTARY INFORMATION: This notice informs the public that HUD is seeking approval from OMB for the information collection described in Section A.

A. Overview of Information Collection

Title of Information Collection: Indian Housing Block Grant Competitive Annual Performance Report.

OMB Approval Number: 2577-0218.

Type of Request: Revision of a currently approved collection.

Form Numbers: HUD-52737.

Description of the need for the information and proposed use: The purpose of this notice is to solicit public comment on the proposed Annual Performance Report for the Indian Housing Block Grant Competitive program.

In Fiscal Year 2018, Congress enacted H.R. 1625—Consolidated Appropriations Act, 2018 (Pub. L. 115-141) (Effective: 3/23/18) that appropriated $99,000,000 for IHBG Competitive funding (IHBG Competitive) awards under the Native American Housing Assistance and Self Determination Act (NAHASDA) of 1996 (25 U.S.C. 4101 et seq.). In Fiscal Year 2019, Congress enacted H.R. 265—Consolidated Appropriations Act, 2019 (Pub. L. 116-6) that appropriated $99,000,000 for competitive grants under NAHASDA. In Fiscal Year 2019, Congress renewed program funding for an additional $99,000,000 in awards.

The Indian Housing Block Grant Competitive (IHBG Competitive) program gives priority to projects that spur housing construction and rehabilitation from NAHASDA-eligible recipients while considering need and administrative capacity. Additionally, applicants could have applied for other eligible activities under Section 202 of NAHASDA. HUD's Office of Native American Programs (ONAP) is responsible for managing the IHBG Competitive program.

ONAP made IHBG Competitive funds available under a Notice of Funding Availability (NOFA) and awarded the funds to the applicants with the highest rated applications, particularly those with the greatest housing need and administrative capacity. On December 10, 2019, ONAP announced that 54 tribes and tribally designated housing entities would receive nearly $200,000,000 in IHBG Competitive funds.

IHBG Competitive grantees must submit an IHBG Competitive Annual Performance Report (APR) (HUD-52737) that contains all the reporting requirements codified in the NOFA. Grantees must also submit narrative with the APR that address specific performance measures identified in the NOFA. IHBG Competitive APRs are due to HUD within 90 days of end of the grantee's program year and at the end of the period of performance identified in the grant agreement.

Respondents: Native American Tribes, Alaska Native Villages and Corporations, and Tribally Designated Housing Entities.

Estimated Number of Respondents: 54.

Estimated Number of Responses: 54.

Frequency of Response: 1.

Average Hours per Response: 32.

Total Estimated Burdens: 1,728 hours.

Estimation of the total numbers of hours needed to prepare the information collection including number of respondents, frequency of responses, and hours of response:

Information collection | Number of respondents | *Average number of reponses per respondent | Total annual responses | Burden hours/minutes per response | Total hours
IHBG Competitive APR | 54 | 1 | 54 | 32 | 1,728

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: August 13, 2020.
Merrie Nichols-Dixon,
Director, Office of Policy, Programs and Legislative Initiatives.

[FR Doc. 2020-18391 Filed 8-20-20; 8:45 am]

BILLING CODE 4210-67-P